DEPARTMENT OF JUSTICE

Notice of Lodging of Consent Decree Under the Comprehensive Environmental Response, Compensation and Liability Act

Notice is hereby given that on April 12, 2011, a proposed Consent Decree was lodged with the United States District Court for the Eastern District of Wisconsin in United States v. Waste Management of Wisconsin, Inc., et al., Civil Action No. 2:11-cv-00346-WEC.

In this action, the United States asserted claims against thirty-eight parties for recovery of response costs incurred by the United States in connection with the Muskego Sanitary Landfill Superfund Site (the “Site”) in Muskego, Wisconsin, pursuant to Sections 106 and 107 of the Comprehensive Environmental Response, Compensation and Liability Act (“CERCLA”), 42 U.S.C. 9606 and 9607. The proposed Consent Decree would resolve claims that the United States has asserted against all defendants.

Under the proposed Consent Decree, a group of four “Performing Settling Defendants” will implement remedial measures at the Site consistent with an Explanation of Significant Differences issued by the United States Environmental Protection Agency (“U.S. EPA”) on September 13, 2010. These remedial measures will include: (1) Evaluation of potential measures to optimize performance of the previously-implemented source control remedy at the Site and implementation of any appropriate source control remedy enhancements; (2) development and implementation of an Institutional Control Implementation and Assurance Plan; and (3) completing a three-year evaluation of the effectiveness of monitored natural attenuation as a means of achieving groundwater cleanup standards at the Site. Following completion of the monitored natural attenuation study, if U.S. EPA determines that monitored natural attenuation is not appropriate for this Site, Performing Settling Defendants will evaluate alternative groundwater remedies and implement an alternative groundwater remedy selected by EPA. Under the proposed decree, Performing Settling Defendants will also pay $985,000 to the Hazardous Substances Superfund to reimburse response costs incurred by the United States through January 31, 2010 in connection with the Site, and they will reimburse all response costs incurred by the United States after January 31, 2010 in connection with the Site.

The remaining 34 defendants, “De Minimis Settling Defendants,” will resolve their potential liability with respect to the Site in accordance with Section 122(g) of CERCLA, 42 U.S.C. 9622(g), through specified payments that will be used by Performing Settling Defendants to pay for costs incurred pursuant to the Consent Decree.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Waste Management of Wisconsin, Inc., et al., DJ # 90-11-3-09747.

The Consent Decree may be examined at the Office of the United States Attorney, Eastern District of Wisconsin, 530 Federal Building, 517 East Wisconsin Avenue, Milwaukee, WI 53202 and at U.S. EPA Region 5, 77 W. Jackson Blvd., Chicago, IL 60604. During the public comment period, the Consent Decree may also be examined on the following Department of Justice Web site, http://www.usdoj.gov/enrd/Consent_ Decrees.html. A copy of the Consent Decrees may also be obtained by mail from the Consent Decree Library, U.S. Department of Justice, P.O. Box 7611, Washington, DC 20044-7611 or by faxing or e-mailing a request to Tonia Fleetwood (tonia.fleetwood@usdoj.gov), fax number (202) 514-0097, phone confirmation number (202) 514-1547. In requesting a copy of the Consent Decree from the Consent Decree Library, please enclose a check in the amount of $82.00 (25 cents per page reproduction cost) payable to the U.S. Treasury or, if by e-mail or fax, forward a check in that amount to the Consent Decree Library at the stated address.

Maureen M. Katz,
Assistant Section Chief, Environmental Enforcement Section, Environment and Natural Resources Division, United States Department of Justice.

[FR Doc. 2011-10069 Filed 4-26-11; 8:45 am]

BILLING CODE 4410-15-P